FEDERAL FINANCIAL INSTITUTIONS EXAMINATION COUNCIL

[Docket No. AS23-12]

Appraisal Subcommittee; Notice of Meeting

AGENCY: Appraisal Subcommittee of the Federal Financial Institutions Examination Council.

ACTION: Notice of meeting.

In accordance with section 1104(b) of title XI of the Financial Institutions Reform, Recovery, and Enforcement Act of 1989, as amended, notice is hereby given that the Appraisal Subcommittee (ASC) will meet in open session for its regular meeting:

Location: This will be a virtual meeting via Webex. Please visit the agency's homepage (www.asc.gov) and access the provided registration link in the News and Events section. You MUST register in advance to attend this Meeting.

Date: September 13, 2023.

Time: 10:00 a.m. ET.

Status: Open.

Reports

Chair

Executive Director

Delegated State Compliance Reviews

Grants Director

Financial Manager

Action and Discussion Items

Approval of Minutes

June 14, 2023 Quarterly Meeting Minutes

FY24 ASC Budget Proposal

Proposed Enforcement Rule

How to Attend and Observe an ASC Meeting: The meeting will be open to the public via live webcast only. Visit the agency's homepage (www.asc.gov) and access the provided registration link in the News and Events section. The meeting space is intended to accommodate public attendees. However, if the space will not accommodate all requests, the ASC may refuse attendance on that reasonable basis. The use of any video or audio tape recording device, photographing device, or any other electronic or mechanical device designed for similar purposes is prohibited at ASC Meetings.

James R. Park,
Executive Director.

[FR Doc. 2023-19466 Filed 9-7-23; 8:45 am]

BILLING CODE 6700-01-P